DEPARTMENT OF ENERGY

Federal Energy Regulatory Commission

Combined Notice of Filings #1

Take notice that the Commission received the following electric corporate filings:

Docket Numbers: EC21-115-000.

Applicants: Fairbanks Solar Energy Center LLC, Fairbanks Solar Generation LLC.

Description: Application for Authorization Under Section 203 of the Federal Power Act of Fairbanks Solar Energy Center LLC, et al.

Filed Date: 8/17/21.

Accession Number: 20210817-5058.

Comment Date: 5 p.m. ET 9/7/21.

Docket Numbers: EC21-116-000.

Applicants: Lick Creek Solar, LLC, PGR 2021 Lessee 5, LLC.

Description: Application for Authorization Under Section 203 of the Federal Power Act of Lick Creek Solar, LLC, et al.

Filed Date: 8/17/21.

Accession Number: 20210817-5082.

Comment Date: 5 p.m. ET 9/7/21.

Docket Numbers: EC21-117-000.

Applicants: CA Flats Solar 130, LLC,CA Flats Solar 150, LLC, Imperial Valley Solar 3, LLC, Moapa Southern Paiute Solar, LLC, Kingbird Solar A, LLC, Kingbird Solar B, LLC, Solar Star California XIII, LLC, Solar Star Colorado III, LLC,64KT 8me LLC, Gulf Coast Solar Center II, LLC, Gulf Coast Solar Center III, LLC, Nicolis, LLC, Tropico, LLC, Avalon Solar Partners LLC, Townsite Solar, LLC, Citadel Solar, LLC,325MK 8ME, LLC.

Description: Application for Authorization Under Section 203 of the Federal Power Act of CA Flats Solar 130, LLC, et al.

Filed Date: 8/17/21.

Accession Number: 20210817-5084.

Comment Date: 5 p.m. ET 9/7/21.

Take notice that the Commission received the following electric rate filings:

Docket Numbers: ER20-716-005.

Applicants: LS Power Grid New York Corporation Inc, New York Independent System Operator, Inc.

Description: Compliance filing: LS Power Grid New York Corporation I submits tariff filing per 35: Compliance LSPGNY modification to the Formula rate template & effective date ntc to be effective 5/27/2020.

Filed Date: 8/17/21.

Accession Number: 20210817-5067.

Comment Date: 5 p.m. ET 9/7/21.

Docket Numbers: ER20-2323-001.

Applicants: Midcontinent Independent System Operator, Inc.

Description: Compliance filing: 2021-08-16_SA 3074 Compliance MPFCA Sub 1st Rev Twin Brooks Station (J436 J437) to be effective 6/30/2020.

Filed Date: 8/16/21.

Accession Number: 20210816-5190.

Comment Date: 5 p.m. ET 9/7/21.

Docket Numbers: ER20-2878-000; ER20-2878-010.

Applicants: Pacific Gas and Electric Company.

Description: Informational Filing to correct for Wholesale Distribution Rates for Western Area Power Administration effective July 1, 2021 of Pacific Gas and Electric Company.

Filed Date: 8/16/21.

Accession Number: 20210816-5237.

Comment Date: 5 p.m. ET 9/7/21.

Docket Numbers: ER21-2185-001.

Applicants: PJM Interconnection, L.L.C.

Description: Tariff Amendment: Errata to correct metadata in ER21-2185-000, re: Section Title Parties to be effective 5/28/2021.

Filed Date: 8/17/21.

Accession Number: 20210817-5103.

Comment Date: 5 p.m. ET 8/23/21.

Docket Numbers: ER21-2536-001.

Applicants: Public Service Company of Colorado.

Description: Tariff Amendment: 2021-08-17 Gen Rplcmt Coord Agrmt-Amnd to be effective 12/31/9998.

Filed Date: 8/17/21.

Accession Number: 20210817-5071.

Comment Date: 5 p.m. ET 9/7/21.

Docket Numbers: ER21-2696-000.

Applicants: NSTAR Electric Company.

Description: § 205(d) Rate Filing: Servistar LLC—Interconnection Study Agreement to be effective 8/17/2021.

Filed Date: 8/16/21.

Accession Number: 20210816-5185.

Comment Date: 5 p.m. ET 9/7/21.

Docket Numbers: ER21-2697-000.

Applicants: Meyersdale Storage, LLC.

Description: Baseline eTariff Filing: Common Facilities Agreement Certificate of Concurrence to be effective 8/18/2021.

Filed Date: 8/17/21.

Accession Number: 20210817-5012.

Comment Date: 5 p.m. ET 9/7/21.

Docket Numbers: ER21-2699-000.

Applicants: Minco Wind Energy III, LLC.

Description: Baseline eTariff Filing: Minco Wind Energy III, LLC Application for Market-Based Rate Authority to be effective 10/17/2021.

Filed Date: 8/17/21.

Accession Number: 20210817-5024.

Comment Date: 5 p.m. ET 9/7/21.

Docket Numbers: ER21-2700-000.

Applicants: Northern Indiana Public Service Company LLC, Fairbanks Solar Generation LLC.

Description: Request for Authorization to Undertake Affiliate Sales of Northern Indiana Public Service Company LLC, et al.

Filed Date: 8/17/21.

Accession Number: 20210817-5056.

Comment Date: 5 p.m. ET 9/7/2.

Docket Numbers: ER21-2701-000.

Applicants: PJM Interconnection, L.L.C.

Description: § 205(d) Rate Filing: Original ISA, Service Agreement No. 6131; Queue No. AE2-042 to be effective 7/15/2021.

Filed Date: 8/17/21.

Accession Number: 20210817-5073.

Comment Date: 5 p.m. ET 9/7/21.

Docket Numbers: ER21-2702-000.

Applicants: Midcontinent Independent System Operator, Inc., Otter Tail Power Company.

Description: § 205(d) Rate Filing: Midcontinent Independent System Operator, Inc. submits tariff filing per 35.13(a)(2)(iii: 2021-08-17_SA 3690 OTP-Minnkota Power FCA to be effective 8/16/2021.

Filed Date: 8/17/21.

Accession Number: 20210817-5092.

Comment Date: 5 p.m. ET 9/7/21.

Docket Numbers: ER21-2703-000.

Applicants: Sky River LLC.

Description: Tariff Amendment: Sky River LLC Notice of Cancellation of Market-Based Rate Tariff to be effective 8/18/2021.

Filed Date: 8/17/21.

Accession Number: 20210817-5100.

Comment Date: 5 p.m. ET 9/7/21.

Take notice that the Commission received the following qualifying facility filings:

Docket Numbers: QF21-425-000.

Applicants: Safari Energy, LLC.

Description: Refund Report of Safari Energy, LLC [Grafton Solar Park].

Filed Date: 8/17/21.

Accession Number: 20210817-5030.

Comment Date: 5 p.m. ET 9/7/21.

Docket Numbers: QF21-426-000.

Applicants: Safari Energy, LLC.

Description: Refund Report of Safari Energy, LLC [Montpelier Solar Park].

Filed Date: 8/17/21.

Accession Number: 20210817-5034.

Comment Date: 5 p.m. ET 9/7/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 17, 2021.
Debbie-Anne A. Reese,
Deputy Secretary.

[FR Doc. 2021-18056 Filed 8-20-21; 8:45 am]

BILLING CODE 6717-01-P